FEDERAL MARITIME COMMISSION

[Docket No. 10-08]

Bimsha International v. Chief Cargo Services, Inc., and Kaiser Apparel, Inc.; Notice of Filing of Complaint and Assignment

Notice is given that a complaint has been filed with the Federal Maritime Commission (“Commission”) by Bimsha International, hereinafter “Complainant,” against Chief Cargo Services, Inc., and Kaiser Apparel, Inc., hereinafter “Respondents.” Complainant asserts that it is located in Pakistan and in the business of manufacturing garments. Complainant asserts that Respondents are “New York State Corporations doing business in New York State and elsewhere, performing freight forwarding and cargo handling services paying freight charges, paying import duties and performing U.S. Customs clearance services for its customers.”

Complainant alleges that three transactions occurred between Complainant and Respondent and that “Respondents fraudulently, unlawfully and wrongfully released the shipments without obtaining the negotiable Bills of Lading and remitting payment for the shipments as required by the Shipping Act and the Bill of Lading Act.” As a result, Complainant alleges that Respondents violated: “U.S. Code Title 46 Sec. 1(a), Sec. 30701(4), 30701(6), 30701(7), 30701(8), Sec. 41102(b), 41102(c) (Shipping Act Sec. 10(a)(1) and 10(d)(1)), 41301 (Sec. 11(a) of the Shipping Act), 41302, 41303, 41304, 41305, 41309, 305; U.S. Code 49 Sec. 80101, 80102, 80103, 80104, 80110, 80111, 80116, 80106.”

Complainant requests that the Commission “investigate the matter”; that Respondents be required to answer the charges made by Complainant; that Respondents be ordered to pay reparations of $207,809.74 with interest and attorney's fees; and order any such other and further relief as the Commission deems just and proper.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record.

Pursuant to the further terms of 46 CFR 502.61, the initial decision of the presiding officer in this proceeding shall be issued by August 2, 2011 and the final decision of the Commission shall be issued by November 30, 2011.

Karen V. Gregory,
Secretary.

[FR Doc. 2010-19374 Filed 8-5-10; 8:45 am]

BILLING CODE P